DEPARTMENT OF ENERGY

Federal Energy Regulatory Commission

Combined Notice of Filings #1

Take notice that the Commission received the following electric corporate filings:

Docket Numbers: EC11-80-000.

Applicants: Evergreen Wind Power, LLC, Canandaigua Power Partners, LLC, Evergreen Wind Power V, LLC, Canandaigua Power Partners II, LLC, Stetson Wind II, LLC, Evergreen Gen Lead, LLC, Vermont Wind, LLC, Niagara Wind Power, LLC, Evergreen Wind Power III, LLC, Northeast Wind Holdings, LLC.

Description: Application for Approval under FPA Section 203 of Niagara Wind Power, LLC, et al.

Filed Date: 05/18/2011.

Accession Number: 20110518-5204.

Comment Date: 5 p.m. Eastern Time on Wednesday, June 8, 2011.

Docket Numbers: EC11-81-000.

Applicants: Dayton Power and Light Company, The AES Corporation, DPL Inc., DPL Energy, LLC.

Description: Application for Authorization of Disposition of Jurisdictional Assets and Merger of The AES Corporation and DPL Inc.

Filed Date: 05/19/2011.

Accession Number: 20110519-5027.

Comment Date: 5 p.m. Eastern Time on Thursday, June 9, 2011.

Take notice that the Commission received the following electric rate filings:

Docket Numbers: ER10-787-007, EL10-50-005, EL10-57-005.

Applicants: ISO New England Inc., New England Power Pool Participants Committee.

Description: ISO-NE Compliance Filing in Response to FERC Order issued on April 13, 2011.

Filed Date: 05/13/2011.

Accession Number: 20110513-5170.

Comment Date: 5 p.m. Eastern Time on Friday, June 3, 2011.

Docket Numbers: ER10-3323-004.

Applicants: Indeck-Olean Limited Partnership.

Description: Indeck-Olean Limited Partnership submits tariff filing per 35: Indeck-Olean Compliance File Baseline FERC Electric MBR Tariff No. 1 to be effective 5/18/2011.

Filed Date: 05/18/2011.

Accession Number: 20110518-5137.

Comment Date: 5 p.m. Eastern Time on Wednesday, June 8, 2011.

Docket Numbers: ER11-2908-001.

Applicants: Midwest Independent Transmission System Operator, Inc.

Description: Midwest Independent Transmission System Operator, Inc. submits tariff filing per 35: 05-18-11 Supplemental Reserves Compliance Filing to be effective 4/19/2011.

Filed Date: 05/18/2011.

Accession Number: 20110518-5131.

Comment Date: 5 p.m. Eastern Time on Wednesday, June 8, 2011.

Docket Numbers: ER11-3585-000.

Applicants: Duke Energy Carolinas, LLC.

Description: Informational Update of Duke Energy Carolinas, LLC.

Filed Date: 05/16/2011.

Accession Number: 20110516-5153.

Comment Date: 5 p.m. Eastern Time on Monday, June 6, 2011.

Docket Numbers: ER11-3594-000.

Applicants: City of Anaheim, California.

Description: City of Anaheim, California submits tariff filing per 35.13(a)(1): City of Anaheim, CA TO Tariff and TRR Revisions to be effective 7/1/2011.

Filed Date: 05/18/2011.

Accession Number: 20110518-5136.

Comment Date: 5 p.m. Eastern Time on Wednesday, June 8, 2011.

Docket Numbers: ER11-3595-000.

Applicants: New York Independent System Operator, Inc.

Description: New York Independent System Operator, Inc. submits tariff filing per 35.13(a)(2)(iii: NYISO Filing of Amendments to ISO Agreement and Code of Conduct to be effective 7/18/2011.

Filed Date: 05/18/2011.

Accession Number: 20110518-5148.

Comment Date: 5 p.m. Eastern Time on Wednesday, June 08, 2011.

Docket Numbers: ER11-3596-000.

Applicants: AEP Texas North Company.

Description: AEP Texas North Company submits tariff filing per 35.1: 20110518 TNC RS and SA Baseline to be effective 5/19/2011.

Filed Date: 05/18/2011.

Accession Number: 20110518-5162.

Comment Date: 5 p.m. Eastern Time on Wednesday, June 08, 2011.

Docket Numbers: ER11-3597-000.

Applicants: PJM Interconnection, L.L.C.

Description: PJM Interconnection, L.L.C. submits tariff filing per 35.13(a)(2)(iii: Revisions to Section 3.2.3(e) of PJM's Tariff Att. K Appx and OA Schedule 1 to be effective 9/17/2010.

Filed Date: 05/18/2011.

Accession Number: 20110518-5172.

Comment Date: 5 p.m. Eastern Time on Wednesday, June 08, 2011.

Docket Numbers: ER11-3598-000.

Applicants: Southwestern Public Service Company.

Description: Southwestern Public Service Company submits tariff filing per 35.13(a)(2)(iii: 5-19-11_RS137 SPS-WTMPA to be effective 7/16/2010 under ER11-3598 Filing Type: 10.

Filed Date: 05/19/2011.

Accession Number: 20110519-5016.

Comment Date: 5 p.m. Eastern Time on Thursday, June 09, 2011.

Docket Numbers: ER11-3599-000.

Applicants: Southwest Power Pool, Inc.

Description: Southwest Power Pool, Inc.'s Notice of Cancellation of Meter Agent Services Agreement.

Filed Date: 05/19/2011.

Accession Number: 20110519-5025.

Comment Date: 5 p.m. Eastern Time on Thursday, June 09, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Dated: May 19, 2011.
Nathaniel J. Davis, Sr.,
Deputy Secretary.

[FR Doc. 2011-13025 Filed 5-25-11; 8:45 am]

BILLING CODE 6717-01-P